NATIONAL AERONAUTICS AND SPACE ADMINISTRATION

[Notice (01-093)]

NASA Advisory Council, International Space Station Management and Cost Evaluation Task Force (IMCE); Meeting

AGENCY: National Aeronautics and Space Administration.

ACTION: Notice of meeting.

SUMMARY: In accordance with the Federal Advisory Committee Act, Pub. L. 92-463, as amended, the National Aeronautics and Space Administration announces a meeting of the NASA Advisory Council, International Space Station Management and Cost Evaluation Task Force.

DATES: Monday, August 20, 2001 from 9 a.m. until 5 p.m.

ADDRESSES: National Aeronautics and Space Administration, 300 E Street, SW., Room MIC-7, 7H46, Washington, DC 20546.

FOR FURTHER INFORMATION CONTACT: Mr. Daniel Hedin, Code M, National Aeronautics and Space Administration, Washington, DC 20546, 202/358-1691.

SUPPLEMENTARY INFORMATION: The meeting will be open to the public up to seating capacity of the room. The agenda for the meeting is as follows:

—NASA Organization, Budget Overview

—Human Exploration and Development of Space (HEDS)

—International Space Station

—Program Management

—Facilities and Research

—International Partners

—Office of Management and Budget Perspective

—Congressional Perspective

It is imperative that the meeting be held on this date to accommodate the scheduling priorities of the key participants. Visitors will be requested to sign a visitor's register.

Beth M. McCormick,
Advisory Committee Management Officer, National Aeronautics and Space Administration.

[FR Doc. 01-20223 Filed 8-10-01; 8:45 am]

BILLING CODE 7510-01-P